OFFICE OF SPECIAL COUNSEL

Agency Information Collection Activities; Request for Comment

AGENCY: U.S. Office of Special Counsel.

ACTION: Notice.

SUMMARY: In accordance with the Paperwork Reduction Act of 1995 (44 U.S.C. Chapter 35), and implementing regulations at 5 C.F.R. Part 1320, the U.S. Office of Special Counsel (OSC) is requesting review and clearance from the Office of Management and Budget (OMB) for use of three previously approved information collections consisting of customer survey forms, with minor revisions. The current OMB approval for these collections of information expired on March 31, 2002; OSC does not plan to use the forms again until October 1, 2002. On March 14, 2002, an initial notice of this request for OMB approval, with a request for public comment, was published in the Federal Register at 65 F.R. 20504. No comments were received. Current and former Federal employees and applicants, other federal agencies, state and local government employees, and the general public are again invited to send comments to OMB on these information collection activities.

DATES: Comments should be received on or before July 17, 2002.

ADDRESSES: Comments should be sent to the Office of Information and Regulatory Affairs at the Office of Management and Budget, Attention: Desk Officer for U.S. Office of Special Counsel, New Executive Office Building, 725 Seventeenth Street, N.W., Room 10235, Washington, DC 20503. A copy of any comments should also be sent to Kathryn Stackhouse, U.S. Office of Special Counsel, Planning and Advice Division, 1730 M Street, N.W. (Suite 201), Washington, DC 20036-4505.

FOR FURTHER INFORMATION CONTACT: Copies of the collections of information are available from Kathryn Stackhouse, U.S. Office of Special Counsel, Planning and Advice Division, 1730 M Street, N.W. (Suite 201), Washington, DC 20036-4505; telephone (202) 653-8971; facsimile (202) 653-5151. Copies are also available on OSC's Web site, at www.osc.gov/reading.htm.

SUPPLEMENTARY INFORMATION: OSC is an independent agency responsible for: (1) investigation of allegations of prohibited personnel practices defined by law at 5 U.S.C. 2302(b), and certain other illegal employment practices under titles 5 and 38 of the U.S. Code, affecting current or former Federal employees or applicants for employment, and covered state and local government employees; (2) the interpretation and enforcement of Hatch Act provisions on political activity in chapters 15 and 73 of title 5 of the U.S. Code; and (3) the provision of a secure channel through which Federal employees may make disclosures of information evidencing violations of law, rule or regulation; gross waste of funds; gross mismanagement; abuse of authority; or a substantial and specific danger to public health or safety.

OSC is required to conduct an annual survey of all individuals who seek its assistance. Section 13 of Public Law 103-424 (1994), codified at 5 U.S.C. 1212 note, states, in part: “[T]he survey shall—(1) determine if the individual seeking assistance was fully apprised of their rights; (2) determine whether the individual was successful either at the Office of Special Counsel or the Merit Systems Protection Board; and (3) determine if the individual, whether successful or not, was satisfied with the treatment received from the Office of Special Counsel.” The same section also provides that survey results are to be published in OSC's annual report to Congress.

OSC uses three forms to survey potential respondents in three types of matters closed during the previous fiscal year. Each of these forms is described below. The forms to be submitted to OMB contain minor modifications to existing forms, including increased use of “plain English” and format changes. The Privacy Act notice on the cover letters has also been updated. In addition, the estimated number of annual respondents for each survey has been reduced to reflect estimated survey response rates, rather than the number of surveys sent.

Comment is invited on the following collections of information:

1. Title of Collection: OSC Survey—Prohibited Personnel Practice or Other Prohibited Activity (Agency Form Number OSC-48a; OMB Control Number 3255-0003)

Summary of Collection of Information: This form is used to survey those individuals whose allegations of possible prohibited personnel practices or other prohibited activity have been resolved during the prior fiscal year. The survey asks questions relating to whether the respondent was: (1) apprised of his or her rights; (2) successful at OSC or at the Merit Systems Protection Board; and (3) satisfied with the treatment received at OSC.

Need for and Proposed Use of the Information: This survey is required by law under section 13 of Public Law 103-424 (1994), codified at 5 U.S.C. 1212 note. Results are summarized, in statistical form, in OSC's annual report to Congress, also as required by law. In addition, the survey results are reported to OSC's senior staff, who use them to: (1) assess levels of satisfaction with services rendered; (2) link results with management planning and other agency operations; (3) identify areas where improvements can be made; (4) enhance awareness of service issues at all levels of the agency; and (5) improve service to complainants and others seeking the agency's assistance.

Likely Respondents: Current and former Federal employees and applicants, and their representatives, state and local government employees, and their representatives, and others who have filed a complaint of prohibited personnel practices or other prohibited activity with OSC.

Estimated Annual Number of Respondents: 682.

Frequency: Annual.

Estimated Average Amount of Time for Reporting and Recordkeeping: 20 minutes.

Estimated Annual Burden: 227 hours.

2. Title of Collection: OSC Survey—Hatch Act Advisory Opinion (Agency Form Number OSC-48b; OMB Control Number 3255-0003)

Summary of Collection of Information: This form is used to survey those individuals who received a written advisory opinion on the application of the Hatch Act during the prior fiscal year. The survey asks questions relating to whether the respondent was: (1) apprised of his or her rights; (2) successful at OSC; and (3) satisfied with the treatment received at OSC.

Need for and Proposed Use of the Information: This survey is required by law under section 13 of Public Law 103-424 (1994), codified at 5 U.S.C. 1212 note. Results are summarized, in statistical form, in OSC's annual report to Congress, also as required by law. In addition, the survey results are reported to OSC's senior staff, who use them to: (1) assess levels of satisfaction with services rendered; (2) link results with management planning and other agency operations; (3) identify areas where improvements can be made; (4) enhance awareness of service issues at all levels of the agency; and (5) improve service to complainants and others seeking the agency's assistance.

Likely Respondents: Current and former Federal employees and applicants, and their representatives, state and local government employees, and their representatives, and others who have received a written advisory opinion on the Hatch Act from OSC.

Estimated Annual Number of Respondents: 65.

Frequency: Annual.

Estimated Average Amount of Time for Reporting and Recordkeeping: 12 minutes.

Estimated Annual Burden: 13 hours.

3. Title of Collection: OSC Survey—Whistleblower Disclosure (Agency Form Number OSC-48c; OMB Control Number 3255-0003)

Summary of Collection of Information: This form is used to survey those individuals who have filed a whistleblower disclosure, and whose matter was closed during the prior fiscal year. The survey asks questions relating to whether the respondent was: (1) apprised of his or her rights; (2) successful at OSC; and (3) satisfied with the treatment received at OSC.

Need for and Proposed Use of the Information: This survey is required by law under section 13 of Public Law 103-424 (1994), codified at 5 U.S.C. 1212 note. Results are summarized, in statistical form, in OSC's annual report to Congress, also as required by law. In addition, the survey results are reported to OSC's senior staff, who use them to: (1) assess levels of satisfaction with services rendered; (2) link results with management planning and other agency operations; (3) identify areas where improvements can be made; (4) enhance awareness of service issues at all levels of the agency; and (5) improve service to complainants and others seeking the agency's assistance.

Likely Respondents: Current and former Federal employees and applicants, and their representatives, who have filed a whistleblower disclosure with OSC.

Estimated Annual Number of Respondents: 93.

Frequency: Annual.

Estimated Average Amount of Time for Reporting and Recordkeeping: 15 minutes.

Estimated Annual Burden: 23 hours.

Dated: June 10, 2002.
Timothy Hannapel,
Deputy Special Counsel.

[FR Doc. 02-15156 Filed 6-14-02; 8:45 am]

BILLING CODE 7405-01-S